DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. Mines. This Federal Register Notice (FR Notice) notifies the public that it has investigated and issued a final decision on certain mine operator petitions to modify a safety standard.

ADDRESSES: Copies of the final decisions are posted on MSHA's Web Site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Lawrence D. Reynolds, Office of Standards, Regulations, and Variances at 202-693-9449 (Voice), reynolds.lawrence@dol.gov (E-mail), or 202-693-9441 (Telefax), or Barbara Barron at 202-693-9447 (Voice), barron.barbara@dol.gov (E-mail), or 202-693-9441 (Telefax). [These are not toll-free numbers.]

SUPPLEMENTARY INFORMATION:

I. Introduction

Under section 101 of the Federal Mine Safety and Health Act of 1977, a mine operator may petition and the Secretary of Labor (Secretary) may modify the application of a mandatory safety standard to that mine if the Secretary determines that: (1) an alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2006-075-C.

FR Notice: 71 FR 70550 (December 5, 2006).

Petitioner: San Juan Coal Company, P.O. Box 561, Waterflow, New Mexico 87421.

Mine: San Juan South Mine, MSHA I.D. No. 29-02170, located in San Juan County, New Mexico.

Regulation Affected: 30 CFR 75.1700 (Oil and gas wells).

• Docket Number: M-2006-081-C.

FR Notice: 72 FR 8202 (February 23, 2007).

Petitioner: Oak Grove Resources, LLC, 8800 Oak Grove Mine Road, Adger, Alabama 35006.

Mine: Oak Grove Mine, MSHA I.D. No. 01-00851, located in Jefferson County, Alabama.

Regulation Affected: 30 CFR 75.507 (Power connection points).

• Docket Number: M-2007-013-C.

FR Notice: 72 FR 31859 (June 8, 2007).

Petitioner: TJS Mining Company, Inc., 2340 Smith Road, Shelocta, Pennsylvania 15774.

Mine: Rossmoyne No. 1 Mine, MSHA I.D. No. 36-09075, located in Indiana County, Pennsylvania.

Regulation Affected: 30 CFR 75.503 (Permissible electric face equipment; maintenance) and 30 CFR 18.35 (Portable (trailing) cables and cords).

• Docket Number: M-2007-018-C.

FR Notice: 72 FR 30396 (May 31, 2007).

Petitioner: TJS Mining Company, Inc., 2340 Smith Road, Shelocta, Pennsylvania 15774.

Mine: Darmac #2 Mine, MSHA I.D. No. 36-08135, located in Armstrong County, Pennsylvania.

Regulation Affected: 30 CFR 75.503 (Permissible electric face equipment; maintenance) and 30 CFR 18.35 (Portable (trailing) cables and cords).

• Docket Number: M-2007-040-C.

FR Notice: 72 FR 39465 (July 18, 2007).

Petitioner: UAE CoalCorp Associates, One Harmony Road, P.O. Box 0306, Mount Carmel, Pennsylvania 17851.

Mine: Harmony Mine, I.D. No. 36-07838, located in Columbia County, Pennsylvania.

Regulation Affected: 30 CFR 75.1400 (Hoisting equipment; general).

• Docket Number: M-2007-041-C.

FR Notice: 72 FR 39465 (July 18, 2007).

Petitioner: Brooks Run Mining Company, LLC, 25 Little Birch Road, Sutton, West Virginia 25601.

Mine: Cucumber Mine, I.D. No. 46-09066, located in McDowell County, West Virginia.

Regulation Affected: 30 CFR 75.503 (Permissible electric face equipment; maintenance) and 30 CFR 18.35 (Portable (trailing) cables and cords).

• Docket Number: M-2007-043-C.

FR Notice: 72 FR 45829 (August 15, 2007).

Petitioner: Consolidation Coal Company, 1800 Washington Road, Pittsburgh, Pennsylvania 15241.

Mine: Robinson Run No. 95 Mine, MSHA I.D. No. 46-01318, located in Harrison County, West Virginia.

Regulation Affected: 30 CFR 75.503 (Permissible electric face equipment; maintenance) and 30 CFR 18.35 (Portable (trailing) cables and cords).

• Docket Number: M-2007-047-C.

FR Notice: 72 FR 45830 (August 15, 2007).

Petitioner: Blue Diamond Coal Company, P.O. Box 47, Slemp, Kentucky 41763.

Mine: #77 Mine, MSHA I.D. No. 15-09636, located in Perry County, Kentucky.

Regulation Affected: 30 CFR 75.364(b)(2) (Weekly examination).

• Docket Number: M-2007-055-C.

FR Notice: 72 FR 53265 (September 18, 2007).

Petitioner: Chestnut Coal Company, RR 3, Box 142, Sunbury, Pennsylvania 17801.

Mine: No. 13 Slope Mine, MSHA I.D. No. 36-09475, located in Northumberland County, Pennsylvania.

Regulation Affected: 30 CFR 75.1200(d) and (i) (Mine Map).

• Docket Number: M-2007-056-C.

FR Notice: 72 FR 53266 (September 18, 2007).

Petitioner: Chestnut Coal Company, RR 3, Box 142, Sunbury, Pennsylvania.

Mine: No. 13 Slope Mine, MSHA I.D. No. 36-09475, located in Northumberland County, Pennsylvania.

Regulation Affected: 30 CFR 75.1202-1(a) (Temporary notations, revisions and supplements).

• Docket Number: M-2007-057-C.

FR Notice: 72 FR 53266 (September 18, 2007).

Petitioner: Chestnut Coal Company, RR 3, Box 142, Sunbury, Pennsylvania.

Mine: No. 13 Slope Mine, MSHA I.D. No. 36-09475, located in Northumberland County, Pennsylvania.

Regulation Affected: 30 CFR 75.1400 (Hoisting equipment; general).

• Docket Number: M-2007-061-C.

FR Notice: 72 FR 65077 (November 19, 2007).

Petitioner: D & R Coal Company, Inc., P.O. Box 728, Barbourville, Kentucky 40906.

Mine: Mine No. 3, MSHA I.D. No. 15-19018, located in Knox County, Kentucky.

Regulation Affected: 30 CFR 75.342 (Methane monitors).

• Docket Number: M-2007-062-C.

FR Notice: 72 FR 65077 (November 19, 2007).

Petitioner: D & R Coal Company, P.O. Box 728, Barbourville, Kentucky 40906.

Mine: Mine No. 3, MSHA I.D. No. 15-19018, Knox County, Kentucky.

Regulation Affected: 30 CFR 75.380(f)(4)(i) (Escapeways; bituminous and lignite mines).

• Docket Number: M-2007-064-C.

FR Notice: 72 FR 65077 (November 19, 2007).

Petitioner: Stirrat Coal Company, P.O. Box 279, Louisa, Kentucky 41230.

Mine: Preparation Plant, MSHA I.D. No. 46-2515, located in Logan County, West Virginia.

Regulation Affected: 30 CFR 77.214(a) (Refuse piles; general).

• Docket Number: M-2007-009-M.

FR Notice: 72 FR 59309 (October 19, 2007).

Petitioner: Unimin Specialty Minerals, Inc., 48 West Boscawen Street, Winchester, Virginia 22601.

Mine: Elco Mine, MSHA I.D. No. 11-01981, located in Alexander County, Illinois.

Regulation Affected: 30 CFR 56.13020 (Use of compressed air).

Jack Powasnik,
Deputy Director, Office of Standards, Regulations, and Variances.

[FR Doc. E8-9428 Filed 4-29-08; 8:45 am]

BILLING CODE 4510-43-P